DEPARTMENT OF TRANSPORTATION

Federal Aviation Administration

[Docket No. FAA-2019-0772]

Agency Information Collection Activities: Requests for Comments; Clearance of a New Approval of Information Collection: Pilot Reports (PIREP)

AGENCY: Federal Aviation Administration (FAA), DOT.

ACTION: Notice and request for comments.

SUMMARY: In accordance with the Paperwork Reduction Act of 1995, FAA invites public comments about our intention to request the Office of Management and Budget (OMB) approval for a new information collection. The collection involves an aircraft pilot's voluntary submission of weather conditions that were encountered while in flight. The information to be collected is necessary because Pilot Report (PIREP) Solicitation and Dissemination has been identified by the ATO as one of the Top 5 hazards in the National Airspace System (NAS). For certain weather conditions, PIREPs are the only means of confirmation that forecasted conditions are occurring. The FAA 7110-2 PIREP Form is a guide to assist pilots in submitting Pilot Weather Reports into the NAS.

DATES: Written comments should be submitted by November 30, 2019.

ADDRESSES: Please send written comments:

By Electronic Docket: www.regulations.gov (Enter docket number into search field).

By mail: Federal Aviation Administration, Mail Stop AJR-B1, 800 Independence Ave SW, Suite 300 W, Washington, DC 20591.

By fax: 202-267-6310.

FOR FURTHER INFORMATION CONTACT: Michael Helwig by email at: michael.helwig@faa.gov; phone: 202-267-1666.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Pilot Reports (PIREP).

Form Numbers: FAA 7110-2.

Type of Review: New information collection.

Background: The guidance for collecting PIREP information is contained in FAAO 7110. 10, Flight Service, of which System Operations Services (AJR) is the office of primary responsibility.

Respondents: Pilots, as of 9/21/19, 53,976 PIREPs have been entered in the NAS.

Frequency: On occasion, depending on the weather conditions encountered.

Estimated Average Burden per Response: 2-3 minutes.

Estimated Total Annual Burden: <1 hour per respondent.

Issued in Washington, DC, on September, 26, 2019.
Michael C. Artist,
Vice President, System Operations Services, Air Traffic Organization.

[FR Doc. 2019-21257 Filed 9-30-19; 8:45 am]

BILLING CODE 4910-13-P